FEDERAL COMMUNICATIONS COMMISSION

47 CFR Part 12

[EB Docket No. 06-119; WC Docket No. 06-63; FCC 07-107]

Recommendations of the Independent Panel Reviewing the Impact of Hurricane Katrina on Communications Networks

AGENCY: Federal Communications Commission.

ACTION: Final rule; announcement of effective date.

SUMMARY: On August 12, 2008, the Office of Management and Budget (OMB) approved the information collection contained in § 12.3 of the Federal Communications Commission's rules, regarding 911 and E911 analyses and reports, as adopted by the Federal Communications Commission (Commission) in its Order addressing the report and recommendations of the Independent Panel Reviewing the Impact of Hurricane Katrina on Communications Networks. 72 FR 37655, July 11, 2007. The effective date for § 12.3 of the Commission's rules was deferred until OMB approved this information collection. In this document, the Commission provides notice that § 12.3 of the Commission's rules is effective on October 9, 2008.

DATES: Section 12.3 of the Commission's rules, 47 CFR 12.3, (72 FR 37655, July 11, 2007) is effective on October 9, 2008. Respondents are required to submit their reports by February 6, 2009.

ADDRESSES: Entities required to file reports through the E911 Architecture Information System should obtain login identifications, passwords and the URL for the system from John Healy in the Commission's Public Safety and Homeland Security Bureau at 202-418-2448 or John.Healy@fcc.gov.

FOR FURTHER INFORMATION CONTACT: For additional information about this information collection contact Jeffery Goldthorp, Chief, Communications Systems Analysis Division, Public Safety and Homeland Security Bureau, Federal Communications Commission at 202-418-1096.

SUPPLEMENTARY INFORMATION: In response to the report and recommendations of the Independent Panel Reviewing the Impact of Hurricane Katrina on Communications Networks, the Commission took a number of steps to improve the reliability and resiliency of communications networks. Among the actions taken by the Commission was the adoption of § 12.3 of the Commission's rules, which requires local exchange carriers (LECs), commercial mobile radio service (CMRS) providers required to comply with § 20.18 of the Commission's rules, and interconnected Voice over Internet Protocol (VoIP) service providers to analyze their 911 and E911 networks and/or systems and provide reports addressing the redundancy, resiliency and reliability of those networks and/or systems. The Commission exempts the following entities from this rule: (1) LECs that meet the definition of a Class B company set forth in § 32.11(b)(2) of the Commission's rules; (2) non-nationwide CMRS providers with no more than 500,000 subscribers at the end of 2001; and (3) interconnected VoIP service providers with annual revenues below the revenue threshold established pursuant to § 32.11 of the Commission's rules. The effective date for § 12.3 of the Commission's rules was deferred until OMB approved the information collection. 72 FR 37655, July 11, 2007. On August 12, 2008, the Office of Management and Budget approved this information collection. 73 FR 50012, August 25, 2008. (OMB Control Number: 3060-1119.) The details of this information collection were set forth in a previous notice. 73 FR 39305, July 9, 2008. Section 12.3 of the Commission's rules is effective on October 9, 2008.

The Commission delegated authority to the Public Safety and Homeland Security Bureau (Bureau) to implement and activate a process through which these reports would be submitted. The Bureau has since created an electronic system, the E911 Architecture Information System, which will be activated upon release of this document on October 9, 2008. Respondent LECs, CMRS providers, and interconnected VoIP service providers are required to submit their reports through the E911 Architecture Information System by February 6, 2009.

Entities required to file reports through the E911 Architecture Information System should obtain login identifications and passwords from John Healy at 202-418-2448 or John.Healy@fcc.gov. Once this contact has been made, Mr. Healy will provide the URL for the E911 Architecture Information System where entities should download the reporting form and submit the completed form by February 6, 2009.

As stated in § 12.3 of the Commission's rules, these reports will be afforded confidential treatment. The reports will be shared pursuant to a protective order with only the following three entities, if the entities file a request for the reports: (1) The National Emergency Number Association; (2) The Association of Public Safety Communications Officials; and (3) The National Association of State 9-1-1 Administrators. Such entities should submit requests for these reports to Jean Ann Collins, Deputy Chief, Communications Systems Analysis Division, Public Safety and Homeland Security Bureau, Federal Communications Commission, 445 12th Street, SW., Room 7-A363, Washington, DC 20554 or JeanAnn.Collins@fcc.gov. All other access to these reports must be sought pursuant to procedures set forth in § 0.461 of the Commission's rules. Notice of any requests for inspection of these reports will be provided to the filers of the reports pursuant to § 0.461(d)(3) of the Commission's rules.

Federal Communications Commission.
Marlene H. Dortch,
Secretary.

[FR Doc. E8-23769 Filed 10-8-08; 8:45 am]

BILLING CODE 6712-01-P